DEPARTMENT OF THE INTERIOR

Fish and Wildlife Service

[FWS-HQ-R-2017-N118; FXGO1664091HCC0-FF09D00000-178]

Wildlife and Hunting Heritage Conservation Council; Public Teleconference

AGENCY: Fish and Wildlife Service, Interior.

ACTION: Notice of teleconference.

SUMMARY: We, the U.S. Fish and Wildlife Service, announce a public teleconference of the Wildlife and Hunting Heritage Conservation Council (Council). The Council provides advice about wildlife and habitat conservation endeavors that benefit wildlife resources; encourage partnership among the public, sporting conservation organizations, states, Native American tribes, and the Federal Government; and benefit recreational hunting.

DATES: Meeting: Wednesday August 30, 2017, from 9 a.m. to 5 p.m. (Eastern Daylight Time). For deadlines and directions on registering to participate, submitting written material, and giving an oral presentation, please see Public Input under SUPPLEMENTARY INFORMATION.

FOR FURTHER INFORMATION CONTACT: Joshua Winchell, Council Designated Federal Officer, by U.S. mail at the U.S. Fish and Wildlife Service, National Wildlife Refuge System, 5275 Leesburg Pike, Falls Church, VA 22041-3803; by telephone at (703) 358-2639; or by email at joshua_winchell@fws.gov.

SUPPLEMENTARY INFORMATION: In accordance with the requirements of the Federal Advisory Committee Act, 5 U.S.C. Appendix 2, we announce that the Wildlife and Hunting Heritage Conservation Council (Council) will hold a teleconference.

Background

Formed in February 2010, the Council provides advice about wildlife and habitat conservation endeavors that:

1. Benefit wildlife resources;

2. Encourage partnership among the public, sporting conservation organizations, states, Native American tribes, and the Federal Government; and

3. Benefit recreational hunting.

The Council advises the Secretary of the Interior and the Secretary of Agriculture, reporting through the Director, U.S. Fish and Wildlife Service (Service), in consultation with the Director, Bureau of Land Management (BLM); Director, National Park Service (NPS); Chief, Forest Service (USFS); Chief, Natural Resources Conservation Service (NRCS); and Administrator, Farm Services Agency (FSA). The Council's duties are strictly advisory and consist of, but are not limited to, providing recommendations for:

1. Implementing the Recreational Hunting and Wildlife Resource Conservation Plan;

2. Increasing public awareness of and support for the Wildlife Restoration Program;

3. Fostering wildlife and habitat conservation and ethics in hunting and shooting sports recreation;

4. Stimulating sportsmen and women's participation in conservation and management of wildlife and habitat resources through outreach and education;

5. Fostering communication and coordination among state, tribal, and Federal governments; industry; hunting and shooting sportsmen and women; wildlife and habitat conservation and management organizations; and the public;

6. Providing appropriate access to Federal lands for recreational shooting and hunting;

7. Providing recommendations to improve implementation of Federal conservation programs that benefit wildlife, hunting, and outdoor recreation on private lands; and

8. When requested by the Designated Federal Officer in consultation with the Council Chairperson, performing a variety of assessments or reviews of policies, programs, and efforts through the Council's designated subcommittees or workgroups.

Background information on the Council is available at http://www.fws.gov/whhcc.

Meeting Agenda

The Council will convene to consider issues including:

1. Implementing Department of the Interior Secretarial Order 3347—Conservation Stewardship and Outdoor Recreation;

2. Status of the Recreation Hunting and Wildlife Conservation Plan, as directed by Executive Order 13443; and

3. Other Council business.

The final agenda will be posted on the internet at http://www.fws.gov/whhcc.

Public Input

If you wish to: | You must contact the Council Designated Federal Officer (see FOR FURTHER INFORMATION CONTACT) no later than:
Listen to the Teleconference | August 17, 2017.
Submit written information or questions before the teleconference for the Council to consider during the meeting | August 17, 2017.
Give an oral presentation during the teleconference | August 17, 2017.

Submitting Written Information or Questions

Interested members of the public may submit relevant information or questions for the Council to consider during the public teleconference. Written statements must be received by the date in Public Input so that the information may be made available to the Council for consideration prior to this meeting. Written statements must be supplied to the Council Designated Federal Officer in both of the following formats: One hard copy with original signature, and one electronic copy via email (acceptable file formats are Adobe Acrobat PDF, MS Word, MS PowerPoint, or rich text file).

Giving an Oral Presentation

Individuals or groups who want to make an oral presentation during the teleconference will be limited to 2 minutes per speaker, with no more than a total of 30 minutes for all speakers. Interested parties should contact the Council Designated Federal Officer, in writing (preferably via email; see FOR FURTHER INFORMATION CONTACT), to be placed on the public speaker list for this teleconference. Nonregistered public speakers cannot be accommodated during the teleconference. Registered speakers who wish to expand upon their oral statements, or those who had wished to speak but could not be accommodated on the agenda, may submit written statements to the Council Designated Federal Officer up to 30 days subsequent to the teleconference.

Meeting Minutes

Summary minutes of the teleconference will be maintained by the Council Designated Federal Officer (see FOR FURTHER INFORMATION CONTACT). They will be available for public inspection within 90 days of the teleconference, and will be posted on the Council's Web site at http://www.fws.gov/whhcc.

Public Disclosure of Comments: Before including your address, phone number, email address, or other personal identifying information in your comment, please be aware that your entire comment—including your personal identifying information—may be made publicly available at any time. While you may ask us in your comment to withhold your personal identifying information from public review, we cannot guarantee that we will be able to do so.

Authority: 5 U.S.C. Appendix 2.

Joshua Winchell,
Designated Federal Officer, U.S. Fish and Wildlife Service.

[FR Doc. 2017-16841 Filed 8-11-17; 8:45 am]

BILLING CODE 4310-55-P